DEPARTMENT OF TRANSPORTATION

Federal Aviation Administration

14 CFR Part 39

[Docket No. FAA-2016-5443; Directorate Identifier 2016-SW-021-AD; Amendment 39-18884; AD 2017-10-10]

RIN 2120-AA64

Airworthiness Directives; Sikorsky Aircraft Corporation Helicopters

AGENCY: Federal Aviation Administration (FAA), DOT.

ACTION: Final rule.

SUMMARY: We are adopting a new airworthiness directive (AD) for Sikorsky Aircraft Corporation (Sikorsky) Model S-92A helicopters. This AD requires installing an engine flame detector bracket assembly and harness assembly. This AD was prompted by reports of false fire warnings. The actions of this AD are intended to prevent an unsafe condition on these products.

DATES: This AD is effective August 25, 2017.

The Director of the Federal Register approved the incorporation by reference of certain documents listed in this AD as of August 25, 2017.

ADDRESSES: For service information identified in this final rule, contact Sikorsky Aircraft Corporation, Customer Service Engineering, 124 Quarry Road, Trumbull, CT 06611; telephone 1-800-Winged-S or 203-416-4299; email wcs_cust_service_eng.gr-sik@lmco.com. You may review a copy of the referenced service information at the FAA, Office of the Regional Counsel, Southwest Region, 10101 Hillwood Pkwy., Room 6N-321, Fort Worth, TX 76177. It is also available on the Internet at http://www.regulations.gov by searching for and locating Docket No. FAA-2016-5443.

Examining the AD Docket

You may examine the AD docket on the Internet at http://www.regulations.gov by searching for and locating Docket No. FAA-2016-5443; or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Kristopher Greer, Aerospace Engineer, Boston Aircraft Certification Office, Engine & Propeller Directorate, 1200 District Avenue, Burlington, Massachusetts 01803; telephone (781) 238-7799; email kristopher.greer@faa.gov.

SUPPLEMENTARY INFORMATION:

Discussion

On December 27, 2016, at 81 FR 95066, the Federal Register published our notice of proposed rulemaking (NPRM), which proposed to amend 14 CFR part 39 by adding an AD that would apply to Sikorsky Model S-92A helicopters, serial numbers 920006 through 920298. The NPRM proposed to require installing a No. 2 engine outboard flame detector bracket assembly (bracket) and a No. 2 engine flame detector harness assembly (harness), if not already installed or if the bracket was not installed before the harness. The proposed AD was prompted by reports of false fire indications from the No. 2 engine outboard flame detectors. The proposed requirements were intended to prevent a false fire warning, which could result in an unnecessary emergency landing or ditching.

Comments

We gave the public the opportunity to participate in developing this AD, but we received no comments on the NPRM.

FAA's Determination

We have reviewed the relevant information and determined that an unsafe condition exists and is likely to exist or develop on other products of these same type designs and that air safety and the public interest require adopting the AD requirements as proposed.

Related Service Information Under 1 CFR Part 51

We reviewed Sikorsky S-92 Customer Service Notice 92-094, Revision B, dated June 14, 2016, which provides procedures for installing harness part number (P/N) 92310-04201-041.

We also reviewed Sikorsky Special Service Instructions No. 92-107G, Revision G, dated February 25, 2016, (SSI No. 92-107G) which specifies installing new brackets, P/N 92070-30033-011, 92070-30033-014, and 92070-30033-015, to increase the stability of the No. 2 engine outboard flame detector.

This service information is reasonably available because the interested parties have access to it through their normal course of business or by the means identified in the ADDRESSES.

Other Related Service Information

We reviewed Sikorsky S-92 Alert Service Bulletin (ASB) 92-26-006, Basic Issue, dated February 25, 2016. This service information provides instructions for installing a new bracket by complying with SSI No. 92-107G. We also reviewed S-92 ASB 92-26-007, Basic Issue, dated June 14, 2016. This service information specifies installing harness P/N 92310-04201-041 after or concurrently with the new bracket.

Costs of Compliance

We estimate that this AD affects 50 helicopters of U.S. Registry and that labor costs average $85 per work-hour. Based on these estimates, we expect that installing a new bracket and harness requires 15.25 work hours for a labor cost of about $1,296. Parts cost $100 for a total cost of about $1,396 per helicopter and $69,800 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-10-10 Sikorsky Aircraft Corporation: Amendment 39-18884; Docket No. FAA-2016-5443; Directorate Identifier 2016-SW-021-AD.

(a) Applicability

This AD applies to Sikorsky Aircraft Corporation (Sikorsky) Model S-92A helicopters, serial numbers 920006 through 920298, certificated in any category.

(b) Unsafe Condition

This AD defines the unsafe condition as a false fire warning. This condition could result in an unnecessary emergency landing or ditching.

(c) Effective Date

This AD becomes effective August 25, 2017.

(d) Compliance

You are responsible for performing each action required by this AD within the specified compliance time unless it has already been accomplished prior to that time.

(e) Required Actions

Within 180 hours time-in-service:

(1) For helicopters with a No. 2 engine outboard flame detector bracket assembly (bracket) (either part number (P/N) 92070-30033-014, or both P/N 92070-30033-011 and 92070-30033-015) installed, and with a No. 2 engine flame detector harness assembly (harness) P/N 92310-04201-041 installed: If the harness was installed before the bracket, replace the harness.

(2) For helicopters with a bracket (either P/N 92070-30033-014, or both P/N 92070-30033-011 and 92070-30033-015) installed, and without a harness P/N 92310-04201-041 installed: Remove the harness and install harness P/N 92310-04201-041 by following the Accomplishment Instructions, section 3.C.1, of Sikorsky S-92 Customer Service Notice 92-094, Revision B, dated June 14, 2016 (CSN 92-094).

(3) For helicopters without a bracket (either P/N 92070-30033-014, or both P/N 92070-30033-011 and 92070-30033-015) installed, and with a harness P/N 92310-04201-041 installed:

(i) Install a bracket P/N 92070-30033-014 by following the Instructions, paragraph D, of Sikorsky Special Service Instructions No. 92-107G, Revision G, dated February 25, 2016 (SSI 92-107G).

(ii) Replace the harness.

(4) For helicopters without a bracket (either P/N 92070-30033-014, or both P/N 92070-30033-011 and 92070-30033-015) installed, and without a harness P/N 92310-04201-041 installed:

(i) Install a bracket P/N 92070-30033-014 by following the Instructions, paragraph D, of SSI 92-107G.

(ii) Remove the harness and install harness P/N 92310-04201-041 by following the Accomplishment Instructions, section 3.C.1, of CSN 92-094.

(f) Alternative Methods of Compliance (AMOCs)

(1) The Manager, Boston Aircraft Certification Office, FAA, may approve AMOCs for this AD. Send your proposal to: Kristopher Greer, Aerospace Engineer, Boston Aircraft Certification Office, Engine & Propeller Directorate, 1200 District Avenue, Burlington, Massachusetts 01803; telephone (781) 238-7799; email kristopher.greer@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

Sikorsky S-92 Alert Service Bulletin 92-26-006, Basic Issue, dated February 25, 2016, and Sikorsky S-92 Alert Service Bulletin 92-26-007, Basic Issue, dated June 14, 2016, which are not incorporated by reference, contain additional information about the subject of this AD. For service information identified in this AD, contact Sikorsky Aircraft Corporation, Customer Service Engineering, 124 Quarry Road, Trumbull, CT 06611; telephone 1-800-Winged-S or 203-416-4299; email wcs_cust_service_eng.gr-sik@lmco.com. You may review a copy of this service information at the FAA, Office of the Regional Counsel, Southwest Region, 10101 Hillwood Pkwy., Room 6N-321, Fort Worth, TX 76177.

(h) Subject

Joint Aircraft Service Component (JASC) Code: 2612, Fire Detection.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Sikorsky S-92 Customer Service Notice 92-094, Revision B, dated June 14, 2016.

(ii) Sikorsky Special Service Instructions No. 92-107G, Revision G, dated February 25, 2016.

(3) For Sikorsky service information identified in this AD, contact Sikorsky Aircraft Corporation, Customer Service Engineering, 124 Quarry Road, Trumbull, CT 06611; telephone 1-800-Winged-S or 203-416-4299; email wcs_cust_service_eng.gr-sik@lmco.com.

(4) You may view this service information at FAA, Office of the Regional Counsel, Southwest Region, 10101 Hillwood Pkw., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 5, 2017.
Scott A. Horn,
Acting Manager, Rotorcraft Directorate, Aircraft Certification Service.

[FR Doc. 2017-15033 Filed 7-20-17; 8:45 am]

BILLING CODE 4910-13-P